COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List products to be furnished by nonprofit agencies employing persons who are blind or have other severe disabilities.

EFFECTIVE DATE: December 30, 2007.

ADDRESSES: Committee for Purchase From People Who Are Blind or Severely Disabled, Jefferson Plaza 2, Suite 10800, 1421 Jefferson Davis Highway, Arlington, Virginia 22202-3259

FOR FURTHER INFORMATION CONTACT: Kimberly M. Zeich, Telephone: (703) 603-7740, Fax: (703) 603-0655, or e-mail CMTEFedReg@jwod.gov.

SUPPLEMENTARY INFORMATION: On September 28 and October 5, 2007, the Committee for Purchase From People Who Are Blind or Severely Disabled published notice (72 FR 55173; 56983) of proposed additions to the Procurement List.

After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

Coveralls, Disposable, Recycled Tyvek,

NSN: 8415-LL-L05-0056—Small/Medium

NSN: 8415-LL-L05-0057—Large/Extra Large

NSN: 8415-LL-L05-0058—XXLarge/XXXLarge

NPA: Northeastern Association of the Blind at Albany, Inc., Albany, NY

Coverage: C-List for the requirements of the Norfolk Naval Shipyard, Portsmouth, VA

Contracting Activity: Norfolk Naval Shipyard, Portsmouth, VA

Hydration System, MOLLE, Universal Camouflage,

NSN: 8465-01-525-5531

NPA: The Lighthouse for the Blind, Inc., Seattle, WA

Coverage: C-List for the requirements of the Defense Supply Center Philadelphia, Philadelphia, PA

Contracting Activity: Defense Supply Center Philadelphia, Philadelphia, PA

This action does not affect current contracts awarded prior to the effective date of this addition or options that may be exercised under those contracts.

Kimberly M. Zeich,
Director, Program Operations.

[FR Doc. E7-23237 Filed 11-29-07; 8:45 am]

BILLING CODE 6353-01-P